NUCLEAR REGULATORY COMMISSION

[Docket No. 50-134; NRC-2010-0053]

Notice of Availability of Environmental Assessment and Finding of No Significant Impact for the Leslie C. Wilbur Nuclear Reactor Facility at the Worcester Polytechnic Institute in Worcester, MA

AGENCY: Nuclear Regulatory Commission.

ACTION: Notice of availability.

FOR FURTHER INFORMATION CONTACT: Ted Carter, Project Manager, Materials Decommissioning Branch, Division of Waste Management and Environmental Protection, Office of Federal and State Materials and Environmental Management Programs, U.S. Nuclear Regulatory Commission (NRC), Two White Flint North, Mail Stop T8 F5, 11545 Rockville Pike, Rockville, Maryland 20852-2738 Telephone: (301) 414-5543; fax number: (301) 415-5369; e-mail: ted.carter@nrc.gov.

SUPPLEMENTARY INFORMATION:

Introduction

The NRC is considering the issuance of a license amendment to Material License No. R-61 issued to the Worcester Polytechnic Institute (WPI) to authorize decommissioning of its Leslie C. Wilbur Nuclear Reactor Facility (LCWNRF) located on the campus of WPI in the city of Worcester, Massachusetts for unrestricted use and termination of this license. NRC has prepared an Environmental Assessment (EA) (ML102020428) in support of this amendment in accordance with the requirements of 10 CFR part 51. Based on the EA, the NRC has concluded that a Finding of No Significant Impact (FONSI) is appropriate. The amendment will be issued following the publication of this Notice.

Environmental Assessment

Identification of the Proposed Action

By letter dated March 31, 2009, (ADAMS ML090960651), as supplemented on September 30, 2009 (ADAMS ML092880231), the licensee submitted a Decommissioning Plan (DP) in accordance with 10 CFR 50.82(b)(1), in order to dismantle the 10-kw (thermal) General Electric (GE) Reactor, to dispose of its component parts and radioactive material, and to decontaminate the facilities in accordance with the proposed DP to meet the NRC's unrestricted release criteria. After the NRC verifies that the release criteria have been met, Facility Operating License No. R-61 will be terminated. The licensee submitted an environmental report as part of the Final DP, dated September 2009, that addressed the estimated environmental impacts resulting from decommissioning the GE Reactor. The reactor is permanently shutdown, with the fuel removed from the core and stored in racks in the reactor pool. The objective of the decommissioning is the release of the reactor facility for unrestricted use.

A notice of license amendment request and opportunity to request a hearing was published in the Federal Register on March 8, 2010 (75 FR 10519-10524). No requests for a hearing were received.

Need for the Proposed Action

The proposed action is necessary because of WPI's decision to permanently cease operations at the LCWNRF. As specified in 10 CFR 50.82, any licensee may permanently cease operation and apply to the NRC for license termination and authorization to decommission the affected facility. Further, 10 CFR 51.53(d) provides that each applicant for a license amendment to authorize decommissioning of a production or utilization facility shall submit an environmental report with its application that reflects any new information or significant environmental changes associated with the proposed decommissioning activities. WPI is planning unrestricted use for the area that would be released.

Environmental Impact of the Proposed Action

Many of the potential environmental impacts that would normally be associated with a decommissioning project are not applicable to the WPI decommissioning program. The factors distinguishing the WPI decommissioning program include: The small size of the facility, the limited scope of the planned decontamination and decommissioning work, the short duration of the proposed work, and the small radiological inventory within this facility. Based upon the work scope and approach described in the WPI DP, the potential for negative impact to the environment during the decommissioning of the WPI research reactor is small or not applicable.

The DP states that all decontamination will be performed by trained personnel in accordance with the requirements of the radiation protection program, and will be overseen by a radiation safety officer with multiple years of experience in decommissioning health physics practices. All reactor and pool components will be removed from the facility as low level radioactive waste and managed in accordance with NRC requirements. The licensee estimates the total radiation exposure for the decommissioning process to be about 0.5 person-rem. In addition, by keeping the public at a safe distance, using access control, and by using the approved DP and WPI's radiation protection program to control effluent releases, the licensee expects the radiation exposure to the general public to be negligible. The licensee's conclusion is consistent with the estimate given for the “reference research reactor” in NUREG-0586, “Final Generic Environmental Impact Statement on Decommissioning of the Nuclear Facilities, August 1988.”

Occupational and public exposure may result from offsite disposal of the low-level radioactive waste from the LCWNRF, which includes the GE reactor. In the DP the licensee stated that the handling, storage, and shipment of this radioactive waste will meet the requirements of subpart D, “Technical Requirements for Land Disposal Facilities,” of 10 CFR part 61, “Licensing Requirements for Land Disposal of Radioactive Waste,” 10 CFR part 71, “Packaging and Transportation of Radioactive Material” and 10 CFR 20.2006, “Transfer for Disposal and Manifests.” Low-level radioactive waste will be processed and package for disposal at a licensed low-level waste site such as the EnergySolutions, LLC facility in Clive, Utah.

The NRC regulations at 10 CFR 20.1402 provide radiological criteria for release of a site for unrestricted use. Release criteria for unrestricted use is a Total Effective Dose Equivalent (TEDE) of less than 25 mrem per year from residual radioactivity above background and that the residual radioactivity has been reduced to levels that are as low as reasonably achievable (ALARA). The final status survey will be used to demonstrate that the predicted doses to a member of the public from any residual activity do not exceed the 25 mrem per year dose limit. The NRC will perform inspections and a confirmatory survey to verify the decommissioning activities and the final status survey.

With regard to potential non-radiological impacts, the proposed action does not involve any historic sites. Proper precautions will be taken to reduce the exposure to dust from lead paint and asbestos. WPI has committed to compliance with applicable occupational health and safety requirements, primarily the federal Occupational Safety and Health Act (OSHA) of 1973.

Accordingly, the NRC concludes that there are no significant environmental impacts associated with the proposed action.

Alternatives to the Proposed Action

The three alternatives for disposition of the LCWNRF, which includes the GE Reactor, are: DECON, SAFSTOR, and no action. WPI has proposed the DECON option. DECON is the alternative in which the equipment, structures, and portions of the facilities containing radioactive contaminants are removed or decontaminated to a level that permits the property to be released for unrestricted use. SAFSTOR is the alternative in which the nuclear facilities are placed and maintained in a condition that allows the nuclear facilities to be safely stored and subsequently decontaminated (deferred decontamination) to levels that permit release for unrestricted use. The no-action alternative would leave the facilities in their present configuration, without any decommissioning activities required or implemented. The SAFSTOR and no-action alternatives would entail continued surveillance and physical security measures to be in place and continued monitoring by licensee personnel. The SAFSTOR and no-action alternatives would also require continued maintenance of the facilities. The radiological impacts of SAFSTOR and no-action would be less than the DECON option because of radioactive decay prior to the start of future decommissioning activities under the SAFSTOR and no action options. The SAFSTOR and no-action alternatives also would have no significant environmental impact. However, these options involve the continued use of resources during the SAFSTOR or no-action period. WPI has determined that the proposed action (DECON) is the most efficient use of the LCWNRF, including the GE Reactor, since it proposes to use the space that will become available for unrestricted use. In addition, the regulations in 10 CFR 50.82(b)(4)(i) allow an alternative which provides for delayed completion of decommissioning only when the delay is necessary to protect the public health and safety. The NRC staff finds that delay is not justified since the environmental impacts of the proposed action and the alternatives are similar and insignificant.

Alternative Use of Resources

This action does not involve the use of any resources not previously considered in the Environmental Report submitted as part of the DP on September 30, 2009, for the LCWNRF Reactor.

Agencies and Persons Contacted

On June 29, 2010, NRC sent a copy of the draft EA to the Solid Waste Program, Bureau of Waste Prevention, Central Regional Office, Massachusetts Department of Environmental Protection (MDEP) regarding the environmental impact of the proposed action. After review, the MDEP had no comments.

Finding of No Significant Impact

On the basis of the environmental assessment, the NRC staff concludes that the proposed action will not have a significant effect on the quality of human health or the environment. Accordingly, the NRC has determined not to prepare an environmental impact statement for the proposed action.

For further details with respect to the proposed action, see the licensee's letter dated September 30, 2009 (ADAMS ML092880231), which is available for public inspection, and can be copied for a fee, at the U.S. Nuclear Regulatory Commission's Public Document Room (PDR), located at One White Flint North, 11555 Rockville Pike (first floor), Rockville, Maryland. The NRC maintains an Agency-wide Documents Access and Management System (ADAMS), which provides text and image files of NRC's public documents. This document may be accessed through the NRC's Public Electronic Reading Room on the Internet at http://www.nrc.gov. Persons who do not have access to ADAMS or who have problems in accessing the documents located in ADAMS may contact the PDR reference staff at 1-800-397-4209, 301-415-4737 or by e-mail at pdr@nrc.gov.

Dated at Rockville, Maryland, this 30th day of September, 2010.
For the U.S. Nuclear Regulatory Commission.
Paul Michalak,
Chief, Materials Decommissioning Branch, Decommissioning and Uranium Recovery Licensing Directorate, Division of Waste Management and Environmental Protection, Office of Federal and State Materials, and Environmental Management Programs.

[FR Doc. 2010-25276 Filed 10-6-10; 8:45 am]

BILLING CODE 7590-01-P